DEPARTMENT OF COMMERCE

International Trade Administration

[A-570-088]

Certain Steel Racks and Parts Thereof From the People's Republic of China: Final Results of Antidumping Duty Administrative Review and Final Determination of No Shipments; 2021-2022

AGENCY: Enforcement and Compliance, International Trade Administration, Department of Commerce.

SUMMARY: The U.S. Department of Commerce (Commerce) determines that certain exporters under review sold subject merchandise at below normal value during the period of review (POR), September 1, 2021, through August 31, 2022. Additionally, Commerce determines that Hebei Minmetals Co., Ltd. (Hebei Minmetals) and Xiamen Luckyroc Industry Co., Ltd., (Xiamen Luckyroc) had no shipments of subject merchandise during the POR.

DATES: Applicable April 10, 2024.

FOR FURTHER INFORMATION CONTACT: Elizabeth Bremer or Jonathan Hill, AD/CVD Operations, Office IV, Enforcement and Compliance, International Trade Administration, U.S. Department of Commerce, 1401 Constitution Avenue NW, Washington, DC 20230; telephone: (202) 482-4987 and (202) 482-3518, respectively.

SUPPLEMENTARY INFORMATION:

Background

On October 6, 2023, Commerce published the Preliminary Results in the Federal Register and invited interested parties to comment on those results.¹ On January 29, 2024, Commerce extended the deadline to issue the final results of this review until April 3, 2024.² For details regarding the events that occurred subsequent to publication of the Preliminary Results, see the Issues and Decision Memorandum.³ Commerce conducted this administrative review in accordance with section 751 of the Tariff Act of 1930, as amended (the Act).

¹ See Certain Steel Racks and Parts Thereof from the People's Republic of China: Preliminary Results and Partial Rescission of the Antidumping Duty Administrative Review, and Preliminary Determination of No Shipments; 2021-2022, 88 FR 69612 (October 6, 2023) (Preliminary Results), and accompanying Preliminary Decision Memorandum (PDM).

² See Memorandum, “Extension of Deadline for Final Results of Antidumping Duty Administrative Review,” dated January 29, 2024.

³ See Memorandum, “Decision Memorandum for the Final Results of the Administrative Review of the Antidumping Duty Order on Certain Steel Racks and Parts Thereof from the People's Republic of China; 2021-2022,” dated concurrently with, and hereby adopted by, this notice.

Scope of the Order ⁴

⁴ See Certain Steel Racks and Parts Thereof from the People's Republic of China: Amended Final Affirmative Antidumping Duty Determination and Antidumping Duty Order; and Countervailing Duty Order, 84 FR 48584 (September 16, 2019) (Order).

The merchandise covered by the Order is steel racks and parts thereof. A full description of the scope of the Order is provided in the Issues and Decision Memorandum.

Analysis of Comments Received

We addressed all the issues raised in the case and rebuttal briefs in the Issues and Decision Memorandum. A list of the issues that parties raised, and to which we responded in the Issues and Decision Memorandum, is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, we corrected several errors in our preliminary dumping margin calculations and increased the U.S. sales prices reported by Ningbo Xinguang Rack Co., Ltd./Ningbo Jiabo Rack Co., Ltd./Ningbo Lede Hardware Co., Ltd. (Xinguang Rack) by the amount of countervailing duties imposed on subject merchandise to offset an export subsidy.⁵

⁵ See Issues and Decision Memorandum.

Final Determination of No Shipments

In the Preliminary Results, Commerce determined that Hebei Minmetals and Xiamen Luckyroc did not export or sell subject merchandise during the POR, nor did they have knowledge that their subject merchandise was entered into the United States during the POR.⁶ No interested parties commented on Hebei Minmetals or Xiamen Luckyroc's no-shipments claims. Consequently, Commerce determines that Hebei Minmetals and Xiamen Luckyroc did not export or sell subject merchandise during the POR, or have knowledge of U.S. entries of their subject merchandise during the POR.

⁶ See Preliminary Results PDM at 3-4.

Separate Rates

Commerce has continued to grant Jiangsu Nova Intelligent Logistics Equipment Co., Ltd. (Nova), Xinguang Rack, Jiangsu JISE Intelligent Storage Equipment Co., Ltd. (JISE), and Nanjing Kingmore Logistics Equipment Manufacturing Co., Ltd. (Kingmore) separate rate status.⁷ No parties commented on Commerce's preliminary decision to do so.

⁷ Id. at 13.

Finally, while Nanjing Dongsheng Shelf Manufacturing Co., Ltd. and Nanjing Ironstone Storage Equipment Co., Ltd. contend that they should be granted a separate rate, we have continued to find it is appropriate to reject their untimely filed separate rate information and deny these companies a separate rate.⁸

⁸ Id. at 13-14; see also Issues and Decision Memorandum at Comments 7 and 8.

Rate for Non-Examined Separate Rate Respondents

The statute and Commerce's regulations do not address what weighted-average dumping margin to apply to respondents not selected for individual examination when Commerce limits its examination in an administrative review pursuant to section 777A(c)(2) of the Act. Generally, Commerce looks to section 735(c)(5) of the Act, which provides instructions for calculating the all-others rate in an investigation, for guidance when calculating the dumping margin for respondents that are not individually examined in an administrative review.

Section 735(c)(5)(A) of the Act states that the all-others rate should be calculated by averaging the weighted-average dumping margins determined for individually-examined respondents, excluding rates that are zero, de minimis, or based entirely on facts available. When the rates determined for examined respondents are all zero, de minimis, or based entirely on facts available, section 735(c)(5)(B) of the Act provides that Commerce may use “any reasonable method” to establish the all-others rate.

The final weighted-average dumping margins calculated for the mandatory respondents Nova and Xinguang Rack are not zero, de minimis, or based entirely on facts available. Therefore, we calculated a weighted-average dumping margin for the non-individually examined respondents (to which we granted separate rate status) by weight averaging Nova's and Xinguang Rack's weighted-average dumping margins using the publicly ranged values of their sales of subject merchandise during the POR, consistent with the guidance in section 735(c)(5)(A) of the Act.⁹

⁹ See Memorandum, “Calculation of the Dumping Margin for Respondents Not Selected for Individual Examination for the Final Results,” dated concurrently with this notice.

Final Results of Review

We have determined the following estimated weighted-average dumping margins for the companies listed below for the period September 1, 2021, through August 31, 2022:

Exporter | Weighted-average dumping margins (percent)
Jiangsu Nova Intelligent Logistics Equipment Co., Ltd | 11.44
Ningbo Xinguang Rack Co., Ltd./Ningbo Jiabo Rack Co., Ltd./Ningbo Lede Hardware Co., Ltd | 26.90
Review-Specific Rate Applicable to Non-Examined Companies
Jiangsu JISE Intelligent Storage Equipment Co., Ltd | 12.73
Nanjing Kingmore Logistics Equipment Manufacturing Co., Ltd | 12.73

Disclosure

Commerce intends to disclose to parties to the proceeding the calculations performed for these final results of review within five days of the date of publication of this notice in the Federal Register in accordance with 19 CFR 351.224(b).

Assessment Rates

Pursuant to section 751(a)(2)(C) of the Act and 19 CFR 351.212(b), Commerce will determine, and U.S. Customs and Border Protection (CBP) shall assess, antidumping duties on all appropriate entries of subject merchandise covered by the final results of this review. Commerce intends to issue assessment instructions to CBP no earlier than 35 days after the date of publication date of the final results of this review in the Federal Register. If a timely summons is filed at the U.S. Court of International Trade, the assessment instructions will direct CBP not to liquidate relevant entries until the time for parties to file a request for a statutory injunction has expired (i.e., within 90 days of publication).

For Nova and Xinguang Rack, we calculated importer-specific assessment rates in accordance with 19 CFR 351.212(b)(1).¹⁰ Where the respondent reported reliable entered values, we calculated importer-specific ad valorem assessment rates by dividing the total amount of dumping calculated for all reviewed U.S. sales to the importer by the total entered value of the subject merchandise sold to the importer.¹¹ Where the respondent did not report entered values, we calculated importer-specific per-unit assessment rates by dividing the total amount of dumping calculated for all reviewed U.S. sales to the importer by the total quantity of those sales. We also calculated an estimated ad valorem importer-specific assessment rate to determine whether the per-unit assessment rate is de minimis (i.e., 0.50 percent or less).¹²

¹⁰ We applied the assessment rate calculation method adopted in Antidumping Proceedings: Calculation of the Weighted-Average Dumping Margin and Assessment Rate in Certain Antidumping Proceedings: Final Modification, 77 FR 8101 (February 14, 2012).

¹¹ See 19 CFR 351.212(b)(1).

¹² Id.

Where an importer-specific ad valorem assessment rate is not zero or de minimis, Commerce will instruct CBP to collect the appropriate duties at the time of liquidation. Where an importer-specific ad valorem assessment rate is zero or de minimis, Commerce will instruct CBP to liquidate the appropriate entries without regard to antidumping duties.

Where sales of subject merchandise exported by an individually examined respondent were not reported in the U.S. sales data submitted by the respondent, but the merchandise was entered into the United States during the POR under the CBP case number of the respondent, Commerce will instruct CBP to liquidate any entries of such merchandise at the weighted-average dumping margin for the China-wide entity (i.e., 144.50 percent).¹³ Additionally, where Commerce determines that an exporter under review made no shipments of subject merchandise during the POR, Commerce will instruct CBP to liquidate any suspended entries of subject merchandise that entered under that exporter's CBP case number during the POR at the weighted-average dumping margin for the China-wide entity.

¹³ See Order, 84 FR at 48586.

The antidumping duty assessment rates for JISE and Kingmore, the companies not individually examined in this administrative review that qualified for a separate rate, will be equal to the weighted-average dumping margin listed for JISE and Kingmore in the table above.

For Nanjing Dongsheng Shelf Manufacturing Co., Ltd. and Nanjing Ironstone Storage Equipment Co., Ltd., the companies not eligible for a separate rate and which Commerce considers to be part of the China-wide entity, the assessment rate will be equal to the weighted-average dumping margin for the China-wide entity, i.e., 144.50 percent.¹⁴

¹⁴ Id.

Cash Deposit Requirements

The following cash deposit requirements will be in effect for all shipments of subject merchandise entered, or withdrawn from warehouse, for consumption on, or after, the date of publication of this notice in the Federal Register, as provided for by section 751(a)(2)(C) of the Act: (1) for the companies listed in the table above, the cash deposit rate will be equal to the weighted-average dumping margin listed for the company in the table; (2) for a previously investigated or reviewed exporter of subject merchandise not listed in the table above that has a separate rate, the cash deposit rate will continue to be the exporter's existing cash deposit rate; (3) for all China exporters of subject merchandise that do not have a separate rate, the cash deposit rate will be equal to the weighted-average dumping margin assigned to the China-wide entity, which is 144.50 percent; and (4) for a non-China exporter of subject merchandise that does not have a separate rate, the cash deposit rate will be equal to the weighted-average dumping margin applicable to the China exporter that supplied that non-China exporter.

These cash deposit requirements, when imposed, shall remain in effect until further notice.

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in Commerce's presumption that reimbursement of antidumping and/or countervailing duties occurred and the subsequent assessment of double antidumping duties and/or an increase in the amount of antidumping duties by the amount of the countervailing duties.

Administrative Protective Order (APO)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

We are issuing these final results of administrative review and publishing this notice in accordance with sections 751(a)(1) and 777(i) of the Act and 19 CFR 351.213(h)(2) and 351.221(b)(5).

Dated: April 3, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Whether Commerce Selected the Appropriate Surrogate Country

Comment 2: Whether Commerce Properly Calculated Financial Ratios

Comment 3: Whether the Unit of Measure for Nova's Water Consumption is Incorrect

Comment 4: Whether Commerce Made Errors When Calculating Xinguang Rack's Dumping Margin

Comment 5: Whether Commerce Should Offset Xinguang Rack's Costs for Steel Scrap Sold

Comment 6: Whether Commerce Should Adjust Xinguang Rack's U.S. Sales Prices for Certain Export Subsidies

Comment 7: Whether Commerce Should Accept Dongsheng Shelf's SRC and/or Voluntary Section A Questionnaire Response

Comment 8: Whether Commerce Should Accept Ironstone's SRC

VI. Recommendation

[FR Doc. 2024-07586 Filed 4-9-24; 8:45 am]

BILLING CODE 3510-DS-P